OFFICE OF MANAGEMENT AND BUDGET

Revised Strategic Plan on Statistics for Environmental-Economic Decisions

AGENCY: Office of Management and Budget.

ACTION: Notice.

SUMMARY: The Office of Management and Budget (OMB)—on behalf of the Interagency Policy Working Group on Statistics for Environmental-Economic Decisions (Working Group)—is announcing the availability of a finalized Strategic Plan on Statistics for Environmental-Economic Decisions, which was revised in response to public comments and other information received.

DATES: Work described in the Strategic Plan to develop natural capital accounts and environmental-economic statistics is ongoing at the time of publication and is planned to continue through 2036, with regular updating of these statistics planned thereafter.

FOR FURTHER INFORMATION CONTACT: For additional information, contact: Andrew Stawasz, email: NaturalCapitalAccounting@omb.eop.gov, telephone: (202) 881-7051.

SUPPLEMENTARY INFORMATION: On August 22, 2022, OMB, on behalf the Working Group, issued “Request for Information To Support the Development of a Strategic Plan on Statistics for Environmental-Economic Decisions.” 87 FR 51450. The Working Group is co-chaired by OMB, the Office of Science and Technology Policy, and the Department of Commerce. The Request for Information announced the availability of a draft document entitled “National Strategy to Develop Statistics for Environmental-Economic Decisions: A U.S. System of Natural Capital Accounting and Associated Environmental-Economic Statistics” (Strategic Plan) and initiated a 60-day public comment period. Public comments received are available via www.regulations.gov under docket number OMB-2022-0009. The Working Group revised the Strategic Plan in response to comments and other information received and is now announcing the availability of the final Strategic Plan, available at https://www.whitehouse.gov/wp-content/uploads/2023/01/Natural-Capital-Accounting-Strategy-final.pdf.

Following the Administration's commitment to initiate natural capital accounts and environmental-economic statistics in April 2022, Statistics for Environmental-Economic Decisions makes five recommendations to Federal departments and agencies for how to develop and use natural capital accounts and environmental-economic statistics.

1. The natural capital accounts and environmental-economic statistics should be pragmatic and provide information to:

a. Guide sustainable development and macroeconomic decision making;

b. Support Federal decision making in programmatic, policy, and regulatory settings;

c. Provide structure and data that promote the competitiveness of U.S. businesses;

d. Support resilient state, territorial, Indigenous, Tribal, and local communities; and

e. Facilitate conservation and environmental policy.

2. The natural capital accounts and associated environmental-economic statistics should provide domestic comparability through time and advance international comparisons and harmonization in order to enable the United States to lead with respect to the development of global standards and implementation of those standards.

3. The natural capital accounts and associated environmental-economic statistics should be embedded in the broader U.S. economic statistical system, and guide the process of embedding with three sub-recommendations. Federal departments and agencies should:

a. Incorporate the internationally-agreed standards of the U.N. System of Environmental Economic Accounting to guide development of U.S. natural capital accounts, where those standards are relevant to the United States and robustly developed. This includes following the standard supply-use framework that structures national economic accounts;

b. Adhere to more than one, but a small number of, specific asset boundaries, connected to economic activities, in order to accommodate different applications and contexts and be inclusive of different uses and perspectives; and

c. Use rigorous and the best available economic science for monetizing the value of natural assets.

4. Federal departments and agencies should use a 15-year phased approach to transition from research grade environmental-economic statistics and natural capital accounts to core statistical products, and produce a single headline summary statistic, along with supporting products, tables and reports that provide information in physical and monetary units.

a. The phased approach is designed to enable new information to be available early in the process, facilitate the first pilot accounts appearing in 2023, provide for testing and development, while over the long term meeting high statistical standards and producing a durable and more comprehensive set of statistics to expand the national economic accounts.

b. The Strategic Plan recommends that natural capital accounts produce a new forward-looking headline measure focused on the change in wealth held in nature: Change in Natural Asset Wealth. Integrating this new measure with changes in GDP would provide a more complete and more useful view of U.S. economic progress. Pairing Change in Natural Asset Wealth with GDP would help society tell if today's consumption is being accomplished without compromising the future opportunities that nature provides.

c. The Strategic Plan also recommends the use of dashboards for biological and physical measures.

5. The Federal Government should apply existing authorities and make use of the substantial expertise within Federal departments and agencies, by coordinating across agencies, to develop and update the system of natural capital accounts and environmental-economic statistics in an efficient manner.

Richard L. Revesz,
Administrator, Office of Information and Regulatory Affairs.

[FR Doc. 2023-01608 Filed 1-26-23; 8:45 am]

BILLING CODE 3110-01-P